DEPARTMENT OF DEFENSE

Office of the Secretary

[Docket ID: DoD-2024-OS-0035]

Proposed Collection; Comment Request

AGENCY: Office of the Under Secretary of Defense for Intelligence and Security (OUSD(I&S)), Department of Defense (DoD).

ACTION: 60-day information collection notice.

SUMMARY: In compliance with the Paperwork Reduction Act of 1995, the Defense Counterintelligence and Security Agency (DCSA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 21, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Counterintelligence and Security Agency, 27130 Telegraph Rd., Quantico, VA, 22134, ATTN: Ms. Stepheny Fanning, (571) 305-6243.

SUPPLEMENTARY INFORMATION:

Title; Associated Form; and OMB Number: Certificate Pertaining to Foreign Interests; SF-328; OMB Control Number 0704-0579.

Needs and Uses: This information collection requirement is necessary to support the execution of 32 CFR part 117, “National Industrial Security Program (NISPOM),” dated December 21, 2020 or equivalent. Executive Order (E.O.) 12829, as amended, “National Industrial Security Program (NISP)”, section 202 (a) stipulates that the Secretary of Defense serves as the Executive Agent for inspecting and monitoring the contractors, licensees, and grantees who require or will require access to, or who store or will store classified information; and for determining eligibility for access to classified information of contractors, licensees, and grantees and their respective employees. Section 202 (e) also authorizes the Executive Agent to issue, after consultation with affected agencies, standard forms that will promote the implementation of the NISP.

Executive Order 12829 was amended by Executive Order 13691, adding the Secretary of Homeland Security as the fifth Cognizant Security Agency. Section 202 (d) of E.O. 12829 stipulates that the Secretary of Homeland security may determine the eligibility for access to Classified National Security Information of contractors, licensees and grantees and their respective employees under a designated critical infrastructure protection program, including parties to agreements with such programs. The Secretary of Homeland Security also may inspect and monitor the contractors, grantees or licensees and facilities or may enter into written agreements with the Secretary of Defense, as Executive Agent or with the office of the Director of Intelligence/Director of Central Intelligence Agency to inspect and monitor these programs in whole or in part on behalf of the Secretary of Homeland Security. The specific requirements necessary to protect classified information released to private industry are found in 32 CFR part 117, “National Industrial Security Program (NISPOM),” (Part 117) dated December 21, 2020 or equivalent; DoD Industrial Security Regulation, DoD 5220. 22-R, as amend by DoD 5220.22- NISP Volume 3, “National Industrial Security Program: Procedures for Government Activities Relating to Foreign Ownership, Control or Influence (FOCI), dated April 17, 2014. The SF 328 incorporates its usage for the NISP portion of the Classified Critical Infrastructure Protection Program as stipulated under E.O. 12829, as amended by Executive Order 13691. Revisions to the SF 328 will also incorporate its usage under the DoD's Innovation initiative through the DoD Enhanced Security Program (DESP), pursuant to section 951 of Public Law 114-328 (10 U.S.C. 1564 note). The DESP is a DoD only initiative and is not part of the NISP. Companies participating under the DESP do not require a DoD contract but are required to enter into a Memorandum of Agreement. Completion of the SF 328 and submission of supporting documentation (e.g., company or entity charter documents, board meeting minutes, stock or securities information, descriptions of organizational structures, contracts, sales, leases and/or loan agreements and revenue documents, annual reports and income statements, etc.) is part of the eligibility determination for access to classified information and/or issuance of an Entity Eligibility Determination (also known as a Facility Security Clearance).

The National Defense Authorization Act for Fiscal Year 2020, Public Law 116-92, section 847, “Mitigating Risks Related to Foreign Ownership, Control, or Influence of Department of Defense Contractors or Subcontractors” (sec. 847), requires the Secretary for Defense to improve the process and procedures for the assessment and mitigation of risks related to FOCI of contractors and subcontractors doing business with the DoD, in conjunction with the Departments efforts to develop and implement an improved analytical framework for mitigating risk relating to ownership structure, as required by 10 U.S.C. 2509 and section 847 of Public Law 116-92. To fulfill the requirements of sec. 847, contractors and subcontractors must disclose to DCSA their beneficial ownership and whether they are under FOCI, and to update those disclosures when changes occur to information previously provided consistent with the requirements of the NISPOM. In addition, sec. 847 provides for the creation of other measures as necessary to be consistent with other relevant authorities, including the NISP.

The Small Business Innovation Research and Small Business Technology Transfer (SBIR/STTR) Extension Act of 2022, Public Law 117-183, section 4, “Foreign Risk Management” (DoD SBIR/STTR programs), requires the head of each Federal agency required to establish a SBIR or STTR program to implement a due diligence program to assess security risks presented by small business concerns seeking Federal awards. These security risks includes, among other things, foreign interested-related risks. The DoD intends to utilize the SF 328 as the basis for information collection for DoD SBIR/STTR program participants to disclose their foreign interests, and to report any future changes, as appropriate. For DoD SBIR/STTR, the DoD will use this form to collect information to conduct a risk-based due diligence review and assess security risks presented by small business concerns seeking a federally funded award through the DoD SBIR/STTR programs. The submission will be required to be submitted as part of the SBIR/STTR solicitation package, and details concerning its submission will be included in the solicitation published to perspective submitters.

The use of the SF 328 will also be required by the forthcoming Cybersecurity Maturity Model Certification (CMMC) program, which is currently in the Rulemaking process under 32 CFR part 170. The CMMC program will require CMMC Level 2 Certification Assessments be conducted by a CMMC Third Party Assessment Organization (C3PAO), accredited by the DoD approved CMMC Accreditation Body (AB). To be accredited, the CMMC AB and all C3PAOs must receive a favorable adjudication and not be subject to a level of risk from Foreign Ownership, Control, or Influence (FOCI) as determined by the CMMC Program Management Office (PMO). DCSA will conduct the FOCI assessments for the CMMC AB and C3PAOs after they are nominated by the CMMC PMO.

The multiple authorized uses of this form will create uniformity among numerous authorities responsible for the vetting or review of companies or entities for foreign interest-related risks. In addition, it will establish more consistency among industry concerning their basic information submission requirements regarding foreign interest information.

The submission of the SF-328, and supporting documentation, may be done electronically through a government approved system of record.

Affected Public: Business or other for profit; Not-for-profit institutions.

Annual Burden Hours: 104,917.

Number of Respondents: 62,950.

Responses per Respondent: 1.

Annual Responses: 62,950.

Average Burden per Response: 100 minutes.

Frequency: On occasion.

Dated: April 16, 2024.
Aaron T. Siegel,
Alternate OSD Federal Register Liaison Officer, Department of Defense.

[FR Doc. 2024-08476 Filed 4-19-24; 8:45 am]

BILLING CODE 6001-FR-P